DEPARTMENT OF COMMERCE

International Trade Administration

[C-489-838, C-533-890]

Certain Quartz Surface Products From India and the Republic of Turkey: Initiation of Countervailing Duty Investigations

AGENCY: Enforcement and Compliance, International Trade Administration, Department of Commerce.

DATES: Applicable May 28, 2019.

FOR FURTHER INFORMATION CONTACT: Kristen Johnson at (202) 482-4793 (India) and Stephanie Berger at (202) 482-2483 (Republic of Turkey (Turkey)), AD/CVD Operations, Enforcement and Compliance, International Trade Administration, U.S. Department of Commerce, 1401 Constitution Avenue NW, Washington, DC 20230.

SUPPLEMENTARY INFORMATION:

The Petitions

On May 8, 2019, the U.S. Department of Commerce (Commerce) received countervailing duty (CVD) petitions concerning imports of certain quartz surface products (quartz surface products) from India and Turkey, filed in proper form on behalf of Cambria Company LLC (the petitioner), a domestic producer of quartz surface products.¹ The Petitions were accompanied by antidumping duty (AD) petitions concerning imports of quartz surface products from India and Turkey.²

¹ See the petitioner's letter, “Petitions for the Imposition of Antidumping and Countervailing Duties: Certain Quartz Surface Products from India and the Republic of Turkey,” dated May 8, 2019 (the Petitions).

² Id.

On May 10, May 13, and May 20, 2019, Commerce requested supplemental information pertaining to certain aspects of the Petitions in separate supplemental questionnaires.³ The petitioner filed responses to the supplemental questionnaires on May 14, May 15, May 21, and May 24, 2019.⁴

³ See Commerce's letters, “Petition for the Imposition of Countervailing Duties on Imports of Certain Quartz Surface Products from India: Supplemental Questions,” dated May 10, 2019; “Petition for the Imposition of Countervailing Duties on Imports of Certain Quartz Surface Products from the Republic of Turkey: Supplemental Questions,” dated May 10, 2019; “Petitions for the Imposition of Antidumping and Countervailing Duties on Imports of Certain Quartz Surface Products from India and the Republic of Turkey: Supplemental Questions,” dated May 13, 2019 (General Issues Supplemental); and Memorandum, “Phone Call with Counsel to the Petitioner,” dated May 20, 2019 (May 20, 2019 Memorandum).

⁴ See the petitioner's letters, “Quartz Surface Products from India: Response to Questionnaire,” dated May 14, 2019; “Quartz Surface Products from Turkey: Response to Questionnaire,” dated May 14, 2019; “Certain Quartz Surface Products from India and the Republic of Turkey: Response to General Issues Questionnaire,” dated May 15, 2019 (General Issues Supplement); “Certain Quartz Surface Products from India and the Republic of Turkey: Supplemental Response on Scope,” dated May 21, 2019; and “Certain Quartz Surface Products from India and the Republic of Turkey: Amendment to Petitions,” dated May 24, 2019 (Third General Issues Supplement).

In accordance with section 702(b)(1) of the Tariff Act of 1930, as amended (the Act), the petitioner alleges that the Governments of India and Turkey (GOI and GOT, respectively) are providing countervailable subsidies, within the meaning of sections 701 and 771(5) of the Act, to producers of quartz surface products in India and Turkey and that imports of such products are materially injuring, or threatening material injury to, the domestic quartz surface products industry in the United States. Consistent with section 702(b)(1) of the Act and 19 CFR 351.202(b), for those alleged programs on which we are initiating CVD investigations, the Petitions are accompanied by information reasonably available to the petitioner supporting their allegations.

Commerce finds that the petitioner filed the Petitions on behalf of the domestic industry, because the petitioner is an interested party, as defined in section 771(9)(C) of the Act. Commerce also finds that the petitioner demonstrated sufficient industry support necessary for the initiation of the requested CVD investigations.⁵

⁵ See the “Determination of Industry Support for the Petition” section, infra.

Periods of Investigation

Because the Petitions were filed on May 8, 2019, the periods of investigation (POI) are January 1, 2018, through December 31, 2018, or the most recently completed fiscal year for the foreign government and all of the companies under investigation, provided the foreign government and the companies have the same fiscal year.

Scope of the Investigations

The products covered by these investigations are quartz surface products from India and Turkey. For a full description of the scope of these investigations, see the Appendix to this notice.

Comments on the Scope of the Investigations

During our review of the Petitions, we contacted the petitioner regarding the proposed scope to ensure that the scope language in the Petitions is an accurate reflection of the products for which the domestic industry is seeking relief.⁶ As a result, the scope of the Petitions was modified to clarify the description of the merchandise covered by the Petitions. The description of the merchandise covered by these investigations, as described in the Appendix to this notice, reflects these clarifications.

⁶ See General Issues Supplemental; see also May 20, 2019 Memorandum.

As discussed in the Preamble to Commerce's regulations, we are setting aside a period for interested parties to raise issues regarding product coverage (scope).⁷ Commerce will consider all comments received from interested parties and, if necessary, will consult with interested parties prior to the issuance of the preliminary determinations. If scope comments include factual information,⁸ all such factual information should be limited to public information. To facilitate preparation of its questionnaires, Commerce requests that all interested parties submit such comments by 5:00 p.m. Eastern Time (ET) on June 17, 2019, which is 20 calendar days from the signature date of this notice. Any rebuttal comments, which may include factual information, must be filed by 5:00 p.m. ET on June 27, 2019, which is 10 calendar days from the initial comments deadline.⁹

⁷ See Antidumping Duties; Countervailing Duties; Final Rule, 62 FR 27296, 27323 (May 19, 1997) (Preamble).

⁸ See 19 CFR 351.102(b) (21) (defining “factual information”).

⁹ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically via Enforcement and Compliance's Antidumping Duty and Countervailing Duty Centralized Electronic Service System (ACCESS).¹⁰ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹⁰ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, which went into effect on August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, Commerce notified representatives of the GOI and GOT of the receipt of the Petitions and provided them the opportunity for consultations with respect to the Petitions.¹¹ Consultations were held with the GOI on May 21, 2019, and with the GOT on May 24, 2019.¹²

¹¹ See Commerce's letters, “Countervailing Duty Petition on Certain Quartz Surface Products from India: Invitation for Consultations to Discuss the Countervailing Duty Petition,” dated May 9, 2019, and “Countervailing Duty Petition on Certain Quartz Surface Products from Turkey: Invitation for Consultations to Discuss the Countervailing Duty Petition,” dated May 9, 2019.

¹² See Memoranda, “Consultations with Government of India Officials regarding the Countervailing Duty Petition on Certain Quartz Surface Products from India,” dated May 21, 2019; and “Consultations with Government of Turkey Officials regarding the Countervailing Duty Petition on Certain Quartz Surface Products from the Republic of Turkey,” dated May 24, 2019.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹³ they do so for different purposes and pursuant to a separate and distinct authority. In addition, Commerce's determination is subject to limitations of time and information. Although this may result in different definitions of the like product, such differences do not render the decision of either agency contrary to law.¹⁴

¹³ See section 771(10) of the Act.

¹⁴ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁵ Based on our analysis of the information submitted on the record, we have determined that quartz surface products, as defined in the scope, constitute a single domestic like product, and we have analyzed industry support in terms of that domestic like product.¹⁶

¹⁵ See Volume I of the Petitions, at 8-11 and Exhibit I-6; see also General Issues Supplement at 2-4.

¹⁶ For a discussion of the domestic like product analysis as applied to these cases and information regarding industry support, see Countervailing Duty Investigation Initiation Checklist: Certain Quartz Surface Products from India (India CVD Initiation Checklist), at Attachment II; see also Analysis of Industry Support for the Antidumping and Countervailing Duty Petition Covering Quartz Surface Products from India and the Republic of Turkey (Attachment II); and Countervailing Duty Investigation Initiation Checklist: Certain Quartz Surface Products from the Republic of Turkey (Turkey CVD Initiation Checklist), at Attachment II. These checklists are dated concurrently with this notice and on file electronically via ACCESS. Access to documents filed via ACCESS is also available in the Central Records Unit, Room B8024 of the main Department of Commerce building.

In determining whether the petitioner has standing under section 702(c)(4)(A) of the Act, we considered the industry support data contained in the Petitions with reference to the domestic like product as defined in the “Scope of the Investigations,” in the Appendix to this notice. To establish industry support, the petitioner provided its own production of the domestic like product in 2018 and compared this to the estimated total production of the domestic like product for the entire domestic industry.¹⁷ We relied on data provided by the petitioner for purposes of measuring industry support.¹⁸

¹⁷ See Volume I of the Petitions, at 2-4 and Exhibits I-3 and I-4; see also General Issues Supplement, at 8-9 and Exhibits 10 and 11; Third General Issues Supplement, at 3 and Exhibits 1 and 2.

¹⁸ See Volume I of the Petitions, at 2-4 and Exhibits I-3 and I-4; see also General Issues Supplement, at 8-9 and Exhibits 10 and 11; Third General Issues Supplement, at 3 and Exhibits 1 and 2. For further discussion, see India CVD Initiation Checklist, at Attachment II; and Turkey CVD Initiation Checklist, at Attachment II.

On May 24, 2019, we received comments on industry support from M S International, Inc. (MSI), a U.S. importer of quartz surface products from India and Turkey.¹⁹ The petitioner responded to the industry support comments from MSI on May 28, 2019.²⁰ On May 28, 2019, we received comments from MSI, Bedrosians Tile & Stone, and Arizona Tile LLC, each of whom is a U.S. importer of quartz surface products from India and Turkey, pertaining to the timing of the petitioner's May 24, 2019 supplemental response.²¹

¹⁹ See MSI's letter, “Quartz Surface Products from India and the Republic of Turkey: Comments on the Lack of Standing of the Petitioner and Requests for Action,” dated March 20, 2019 (MSI's Letter).

²⁰ See the petitioner's letter, “Certain Quartz Surface Products from India and the Republic of Turkey: Petitioner's Response to MSI's Comments on Standing,” dated May 28, 2019 (Petitioner's Letter).

²¹ See letter from MSI, Bedrosians Tile & Stone, and Arizona Tile LLC, “Quartz Surface Products from India and the Republic of Turkey: Preliminary Comments on Petitioner's Tardy Amendment to its Petitions,” dated May 28, 2019 (Petition Amendment Comments).

Our review of the data provided in the Petitions, the General Issues Supplement, the Third General Issues Supplement, the Petitioner's Letter, and other information readily available to Commerce indicates that the petitioner has established industry support for the Petitions.²² With respect to the India Petition, the domestic producers (or workers) have met the statutory criteria for industry support under section 702(c)(4)(A)(i) of the Act because the domestic producers (or workers) who support the India Petition account for at least 25 percent of the total production of the domestic like product.²³ The India Petition also established support from domestic producers (or workers) accounting for more than 50 percent of the total production of the domestic like product and, as such, Commerce is not required to take further action in order to evaluate industry support (e.g., polling or reliance on other information).²⁴ Finally, the domestic producers (or workers) have met the statutory criteria for industry support under section 702(c)(4)(A)(ii) of the Act because the domestic producers (or workers) who support the India Petition account for more than 50 percent of the production of the domestic like product produced by that portion of the industry expressing support for, or opposition to, the India Petition.²⁵ Accordingly, Commerce determines that the India Petition was filed on behalf of the domestic industry, within the meaning of section 702(b)(1) of the Act.²⁶

²² See India CVD Initiation Checklist, at Attachment II; see also Turkey CVD Initiation Checklist, at Attachment II.

²³ See India CVD Initiation Checklist, at Attachment II.

²⁴ See id.; see also section 702(c)(4)(D) of the Act.

²⁵ See India CVD Initiation Checklist, at Attachment II

²⁶ Id.

With respect to the Turkey Petition, the domestic producers (or workers) have also met the statutory criteria for industry support under section 702(c)(4)(A)(i) of the Act because the domestic producers (or workers) who support the Turkey Petition account for at least 25 percent of total production of the domestic like product.²⁷ The Turkey Petition did not establish support from domestic producers (or workers) accounting for more than 50 percent of the total production of the domestic like product, however, and Commerce was required to further evaluate industry support.²⁸ In this case, Commerce was able to rely on other information provided by the petitioner on the record, in accordance with sections 702(c)(4)(D)(i) and 702(c)(4)(A)(ii) of the Act, to determine industry support.²⁹ Based on information provided in the Turkey Petition, the domestic producers (or workers) have met the statutory criteria for industry support under section 702(c)(4)(A)(ii) of the Act because the domestic producers (or workers) who support the Turkey Petition account for more than 50 percent of the production of the domestic like product produced by that portion of the industry expressing support for, or opposition to, the Turkey Petition.³⁰ Accordingly, Commerce determines that the Turkey Petition was filed on behalf of the domestic industry within the meaning of section 702(b)(1) of the Act.³¹

²⁷ See Turkey CVD Initiation Checklist, at Attachment II.

²⁸ See section 702(c)(4)(D) of the Act; see also Turkey CVD Initiation Checklist, at Attachment II.

²⁹ See Turkey CVD Initiation Checklist, at Attachment II.

³⁰ Id.

³¹ Id.

Injury Test

Because India and Turkey are “Subsidies Agreement Countries” within the meaning of section 701(b) of the Act, section 701(a)(2) of the Act applies to these investigations. Accordingly, the ITC must determine whether imports of the subject merchandise from India and/or Turkey materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioner alleges that subject imports exceed the negligibility threshold provided for under section 771(24)(A) of the Act.³² In CVD petitions, section 771(24)(B) of the Act provides that imports of subject merchandise from developing and least developed countries must exceed the negligibility threshold of four percent. The petitioner also demonstrates that subject imports from India, which has been designated as a least developed country under section 771(36)(B) of the Act, exceed the negligibility threshold of four percent.³³

³² See Volume I of the Petitions, at 19 and Exhibit I-13; see also General Issues Supplement, at 10 and Exhibit 13.

³³ See Volume I of the Petitions, at 19 and Exhibit I-13; see also General Issues Supplement, at 10 and Exhibit 13.

The petitioner contends that the industry's injured condition is illustrated by a significant and increasing volume of subject imports; reduced market share; underselling and price depression or suppression; lost sales and revenues; and a decline in the domestic industry's employment variables and financial performance.³⁴ We have assessed the allegations and supporting evidence regarding material injury, threat of material injury, causation, as well as cumulation, and we have determined that these allegations are properly supported by adequate evidence, and meet the statutory requirements for initiation.³⁵

³⁴ See Volume I of the Petitions, at 13, 15-40 and Exhibits I-3, I-10, I-13 through I-30; see also General Issues Supplement, at 10-14 and Exhibits 12 and 13.

³⁵ See India CVD Initiation Checklist, at Attachment III, Analysis of Allegations and Evidence of Material Injury and Causation for the Antidumping and Countervailing Duty Petitions Covering Certain Quartz Surface Products from India and the Republic of Turkey (Attachment III); see also Turkey CVD Initiation Checklist, at Attachment III.

Initiation of CVD Investigations

Based on the examination of the Petitions and supplemental responses, we find that they meet the requirements of section 702 of the Act. Therefore, we are initiating CVD investigations to determine whether imports of quartz surface products from India and Turkey benefit from countervailable subsidies conferred by the GOI and GOT. In accordance with section 703(b)(1) of the Act and 19 CFR 351.205(b)(1), unless postponed, we will make our preliminary determinations no later than 65 days after the date of this initiation.

India

Based on our review of the Petition for India, we find that there is sufficient information to initiate a CVD investigation on 34 of the 35 alleged programs. For a full discussion of the basis for our decision to initiate (or not initiate) on each program, see India CVD Initiation Checklist. A public version of the initiation checklist for this investigation is available on ACCESS.

Turkey

Based on our review of the Petition for Turkey, we find that there is sufficient information to initiate a CVD investigation on 17 of the 23 alleged programs. The petitioner alleged two programs, which we plan to examine as a single program in this investigation. For a full discussion of the basis for our decision to initiate (or not initiate) on each program, see Turkey CVD Initiation Checklist. A public version of the initiation checklist for this investigation is available on ACCESS.

Respondent Selection

In the Petitions, the petitioner named 92 companies in India and 25 companies in Turkey as producers/exporters of quartz surface products.³⁶ Commerce intends to follow its standard practice in CVD investigations and calculate company-specific subsidy rates in these investigations. In the event Commerce determines that the number of companies is large, and it cannot individually examine each company based upon Commerce's resources, where appropriate, Commerce intends to select mandatory respondents based on U.S. Customs and Border Protection (CBP) data for U.S. imports of quartz surface products from India and Turkey during the POI under the appropriate Harmonized Tariff Schedule of the United States numbers listed in the “Scope of the Investigations,” in the Appendix.

³⁶ See Volume I of the Petitions, at Exhibit I-9.

On May 22, 2019, Commerce released CBP data under Administrative Protective Order (APO) to all parties with access to information protected by APO and indicated that interested parties wishing to comment regarding the CBP data and respondent selection must do so within three business days of the publication date of the notice of initiation of these CVD investigations.³⁷ Commerce will not accept rebuttal comments regarding the CBP data or respondent selection.

³⁷ See Memoranda, “Countervailing Duty Petition of Certain Quartz Surface Products from India: Release of Customs Data from U.S. Customs and Border Protection,” dated May 22, 2019, and “Countervailing Duty Petition of Certain Quartz Surface Products from the Republic of Turkey: Release of Customs Data from U.S. Customs and Border Protection,” dated May 22, 2019.

Interested parties must submit applications for disclosure under APO in accordance with 19 CFR 351.305(b). Instructions for filing such applications may be found on the Commerce's website at http://enforcement.trade.gov/apo.

Comments must be filed electronically using ACCESS. An electronically filed document must be received successfully, in its entirety, by ACCESS no later than 5:00 p.m. ET on the date noted above. We intend to finalize our decisions regarding respondent selection within 20 days of publication of this notice.

Distribution of Copies of the Petitions

In accordance with section 702(b)(4)(A)(i) of the Act and 19 CFR 351.202(f), copies of the public version of the Petitions have been provided to the GOI and GOT via ACCESS. To the extent practicable, we will attempt to provide a copy of the public version of the Petitions to each exporter named in the Petitions, as provided under 19 CFR 351.203(c)(2).

ITC Notification

We will notify the ITC of our initiation, as required by section 702(d) of the Act.

Preliminary Determinations by the ITC

The ITC will preliminarily determine, within 45 days after the date on which the Petitions were filed, whether there is a reasonable indication that imports of quartz surface products from India and Turkey are materially injuring, or threatening material injury to, a U.S. industry.³⁸ A negative ITC determination in any country will result in the investigations being terminated with respect to that country.³⁹ Otherwise, these CVD investigations will proceed according to statutory and regulatory time limits.

³⁸ See section 703(a)(2) of the Act.

³⁹ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 19 CFR 351.301(b) requires any party, when submitting factual information, to specify under which subsection of 19 CFR 351.102(b)(21) the information is being submitted ⁴⁰ and, if the information is submitted to rebut, clarify, or correct factual information already on the record, to provide an explanation identifying the information already on the record that the factual information seeks to rebut, clarify, or correct.⁴¹ Time limits for the submission of factual information are addressed in 19 CFR 351.301, which provides specific time limits based on the type of factual information being submitted. Interested parties should review the regulations prior to submitting factual information in these investigations.

⁴⁰ See 19 CFR 351.301(b).

⁴¹ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴² Parties must use the certification formats provided in 19 CFR 351.303(g).⁴³ Commerce intends to reject factual submissions if the submitting party does not comply with the applicable certification requirements.

⁴² See section 782(b) of the Act.

⁴³ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702(c)(2) and 777(i) of the Act and 19 CFR 351.203(c).

Dated: May 28, 2019.
Jeffrey I. Kessler,
Assistant Secretary for Enforcement and Compliance.

Appendix

Scope of the Investigations

The merchandise covered by the investigations is certain quartz surface products. Quartz surface products consist of slabs and other surfaces created from a mixture of materials that includes predominately silica (e.g., quartz, quartz powder, cristobalite, glass powder) as well as a resin binder (e.g., an unsaturated polyester). The incorporation of other materials, including, but not limited to, pigments, cement, or other additives does not remove the merchandise from the scope of the investigations. However, the scope of the investigations only includes products where the silica content is greater than any other single material, by actual weight. Quartz surface products are typically sold as rectangular slabs with a total surface area of approximately 45 to 60 square feet and a nominal thickness of one, two, or three centimeters. However, the scope of these investigations includes surface products of all other sizes, thicknesses, and shapes. In addition to slabs, the scope of these investigations includes, but is not limited to, other surfaces such as countertops, backsplashes, vanity tops, bar tops, work tops, tabletops, flooring, wall facing, shower surrounds, fire place surrounds, mantels, and tiles. Certain quartz surface products are covered by the investigations whether polished or unpolished, cut or uncut, fabricated or not fabricated, cured or uncured, edged or not edged, finished or unfinished, thermoformed or not thermoformed, packaged or unpackaged, and regardless of the type of surface finish.

In addition, quartz surface products are covered by the investigations whether or not they are imported attached to, or in conjunction with, non-subject merchandise such as sinks, sink bowls, vanities, cabinets, and furniture. If quartz surface products are imported attached to, or in conjunction with, such non-subject merchandise, only the quartz surface product is covered by the scope.

Subject merchandise includes material matching the above description that has been finished, packaged, or otherwise fabricated in a third country, including by cutting, polishing, curing, edging, thermoforming, attaching to, or packaging with another product, or any other finishing, packaging, or fabrication that would not otherwise remove the merchandise from the scope of the investigations if performed in the country of manufacture of the quartz surface products.

The scope of the investigations does not cover quarried stone surface products, such as granite, marble, soapstone, or quartzite. Specifically excluded from the scope of the investigations are crushed glass surface products. Crushed glass surface products must meet each of the following criteria to qualify for this exclusion: (1) The crushed glass content is greater than any other single material, by actual weight; (2) there are pieces of crushed glass visible across the surface of the product; (3) at least some of the individual pieces of crushed glass that are visible across the surface are larger than 1 centimeter wide as measured at their widest cross-section (“Glass Pieces”); and (4) the distance between any single Glass Piece and the closest separate Glass Piece does not exceed three inches.

The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 6815.99.4070, 2506.10.0010, 2506.10.0050, 2506.20.0010, 2506.20.0080, and 7016.90.1050. The HTSUS subheadings set forth above are provided for convenience and U.S. Customs purposes only. The written description of the scope is dispositive.

[FR Doc. 2019-11487 Filed 5-31-19; 8:45 am]

BILLING CODE 3510-DS-P